DEPARTMENT OF HOUSING AND URBAN DEVELOPMENT

[Docket No. FR-4974-N-01]

Notice of Proposed Information Collection: Comment Request; Ginnie Mae Mortgage-Backed Securities Guide 5500.3, Revision 1 (Forms and Electronic Data Submissions)

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comments Due Date: August 8, 2005.

ADDRESSES: Interested persons are invited to submit comments regarding this proposal. Comments should refer to the proposal by name and/or OMB Control Number and should be sent to:

Wayne Eddins, AYO, Reports Management Officer, Department of Housing and Urban Development, 451 7th Street SW., L'Enfant Plaza Bldg., Rm. 800a, Washington, DC 20410; fax: 202-708-3135; e-mail Wayne_Eddins@HUD.gov.

FOR FURTHER INFORMATION CONTACT: Debra Murphy, Ginnie Mae, 451 7th Street, SW., Room B-133, Washington, DC 20410; e-mail: Debra_L._Murphy@hud.gov; telephone (202) 475-4923; fax: 202-485-0225 (this is not a toll-free number) or the Ginnie Mae Web site at http://www.ginniemae.gov for copies of the proposed forms and other available information.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technolgy, e.g., permitting electronic submission of responses.

This Notice also lists the following information:

Title of Proposal: Ginnie Mae Mortgage-Backed Securities Guide 5500.3, Revision 1 (Forms and Electronic Data Submissions).

OMB Control Number, if applicable: 2503-0033.

Description of the need for the information and proposed use: Ginnie Mae's Mortgage-Backed Securities Guide 5500.3, Revision 1 (“Guide”) provides instructions and guidance to participants in the Ginnie Mae Mortgage-Backed Securities (“MBS”) programs (“Ginnie Mae I and Ginnie Mae II”). Participants in the Ginnie Mae I program issue securities backed by single-family or multifamily loans. Participants in the Ginnie Mae II program issue securities backed by single-family loans. The Ginnie Mae II MBS are modified pass-through MBS on which registered holders receive an aggregate principal and interest payment from a central paying agent on all of their Ginnie Mae II MBS. The Ginnie Mae II MBS also allow small issuers who do not meet the minimum dollar pool requirements of the Ginnie Mae I MBS to participate in the secondary mortgage market. In addition, the Ginnie Mae II MBS permit the securitization of adjustable rate mortgages (“ARMs”). Included in the Guide are forms and documents used to collect information from the public, in order for Ginnie Mae to properly administer its MBS programs.

Agency form numbers, if applicable: 11700, 11701, 11702, 11704, 11705, 11706, 11707, 11708, 11709, 11709-A, 11710-A, 1710-B, 1710-C, 11710-D, 11710-E, 11711-A, 11711-B, 11712, 11712-II, 11714, 11714-SN, 11715, 11717, 11717-II, 11720, 1724, 11728, 11728-II, 1731, 11732, 1734, 11747, 11747-II, 11748-A, 11748-C, 11772-II.

Estimation of the Total Number of Hours Needed To Prepare the Information Collection Including Number of Respondents, Frequency of Response, and Hours of Response
Form | Appendix No. | Title | Number of respondents | Frequency of responses per year | Total annual responses | Hours per response | Total annual hours
11700 | II-1 | Letter of Transmittal | 160 | 4 | 640 | 0.17 | 109
11701 | I-1 | Application for Approval FHA Lender and/or Ginnie Mae Mortgage-Backed Securities Issuer | 16 | 1 | 16 | 1.50 | 24
11702 | I-2 | Resolution of Board of Directors and Certificate of Authorized Signatures | 271 | 1 | 271 | 0.17 | 46
11704 | II-2 | Commitment to Guaranty Mortgage-Backed Securities | 160 | 4 | 640 | 0.25 | 160
11705 | III-6 | Schedule of Subscribers and Ginnie Mae Guaranty Agreement | 271 | 12 | 24,144 | 0.0166 | 401
11706 | III-7 | Schedule of Pooled Mortgages | 271 | 12 | 24,144 | 0.0166 | 401
11707 | III-1 | Master Servicing Agreement | 271 | 1 | 271 | 0.17 | 46
11708 | V-5 | Document Release Request | 271 | 10 | 2,710 | 0.2 | 1,843
11709 | III-2 | Master Agreement for Servicer's Principal and Interest Custodial Account | 271 | 1 | 271 | 0.03 | 8
11709-A | I-6 | ACH Debit Authorization | 271 | 1 | 271 | 0.25 | 68
11710A, 1710B, 1710C and 11710E | VI-4, VI-12, VI-13 | Issuer's Monthly Accounting Report and Liquidation Schedule | 271 | 12 | 4,728,000 | 0.0166 | 78,485
11710D | VI-5 | Issuer's Monthly Summary Reports | 271 | 12 | 4,920 | 0.0166 | 81.67
1171A and 11711B | III-5 | Release of Security Interest and Certification and Agreement | 271 | 12 | 24,144 | 0.0166 | 400.79
11712, 11712-II, 11717, 11717-II, 1724, 11728, 11728-II, 1724, 11728, 11728-II, 1731, 1734, 11747, 11747-II and 11772-II | IV-6, IV-23, IV-4, IV-20, IV-8, IV-24, IV-5, IV-22, IV-21, IV-9, IV-10, IV-7 | Ginnie Mae I, and II Prospectus Forms | 271 | 12 | 24,144 | 0.0166 | 401
11714 and 11714SN | VI-10, VI-11 | Issuer's Monthly Remittance Advice and Issuer's Monthly Serial Note Remittance Advice | 271 | 398 | 107,858 | 0.0166 | 1,790.44
11715 | III-4 | Master Custodial Agreement | 271 | 1 | 271 | 0.25 | 67.75
11720 | III-3 | Master Agreement for Servicer's Escrow Custodial Account | 271 | 1 | 271 | 0.25 | 67.75
11732 | III-22 | Custodian's Certification for Construction Securities | 75 | 1 | 75 | 0.0166 | 1.25
11749 A and 11748 C | VI-6, VI-16 | Addendum to Monthly Accounting Report—Adjustable Rate Mortgage Loan Package | 196 | 8 | 1,568 | 0.0166 | 26.03
|  | Monthly Loan Level Reporting | 271 | 12 | 3,252 | 4 | 13,008
| IX-1 | Financial Statements and Audit Reports | 271 | 1 | 271 | 1 | 271
|  | Mortgage Bankers Financial Reporting Form | 245 | 4 | 980 | 0.50 | 490
| XI-6, XI-8, XI-9 | Soldiers' and Sailors' Quarterly Reimbursement Request and SSCRA Loan Eligibility Information | 68 | 1,245 | 84,660 | 0.034 | 2,878.44
| VI-2 | Form Letter for Loan Repurchase | 271 | 12 | 2,376 | 0.25 | 594.00
| III-21 | Certification Requirements for the Pooling of Multifamily Mature Loan Program | 75 | 1 | 75 | 0.0166 | 1.25
| VI-9 | Request for Reimbursement of Mortgage Insurance Claim Costs for Multifamily Loans | 20 | 1 | 68 | 0.25 | 17
| VII-1 | Collection of Remaining Principal Balances | 271 | 12 | 3,252 | 0.001 | 7,329
|  | Data Verification Form | 271 | 2 | 542 | 0.08 | 43
| III-9 | Ginnie Mae Pool Issuance Correction Request Form | 41 | 12 | 492 | 0.0166 | 8.17
| III-13 | Electronic Data Interchange System Agreement | 271 | 1 | 271 | 0.25 | 67.75
| III-14 | Enrollment Administrator Signatories for Issuers and Document Custodians | 271 | 1 | 271 | 0.25 | 67.75
|  | Corporate Guaranty Agreement | 34 | 1 | 34 | 0.25 | 8.50
| I-4 | Cross Default Agreement | 71 | 1 | 71 | 0.25 | 17.75
| VIII-2, VIII-3 | Transfer Agreements and Assignment Agreements | 79 | 1 | 79 | 0.25 | 19.75
| VIII-2, VIII-3 | Transfer Agreements and Assignment Agreements | 79 | 1 | 79 | 0.25 | 19.75
| VIII-1 | Acknowledgement Agreement and Accompanying Documents—Pledge of Servicing | 10 | 1 | 10 | 1.00 | 10
| XI-2 | Supervisory Agreement | 10 | 1 | 10 | 1 | 10
Total |  |  | 193 |  | 5,041,343 |  | 100,642

Calculations

Total Annual Responses × Hours per Response = Total Annual Hours Estimated Cost to Respondents:

1. Mortgage industry employee salary: $25.00 per hour $25.00 × total Annual Hours = Cost Estimated Annual Cost to Government:

2. Ginnie Mae employee salary: $29.00 per hour $29.00 × Total Annual Hours = Cost.

3. Contractor expense is based on contract with Ginnie Mae.

Status of the proposed information collection: Extension/Modification of a currently approved collection.

Authority: Section 3506 of the Paperwork Reduction Act of 1995, 44 U.S.C. Chapter 35, as amended.

Dated: May 27, 2005.
Michael J. Frenz,
Executive Vice President, Government National Mortgage Association.

[FR Doc. 05-11310 Filed 6-7-05; 8:45 am]

BILLING CODE 4210-66-M